NATIONAL FOUNDATION ON THE ARTS AND THE HUMANITIES

National Council on the Humanities; Meeting

June 22, 2001.

Pursuant to the provisions of the Federal Advisory Committee Act (Pub. L. 92-463, as amended) notice is hereby given the National Council on the Humanities will meet in Washington, DC on July 12-13, 2001.

The purpose of the meeting is to advise the Chairman of the National Endowment for the Humanities with respect to policies, programs, and procedures for carrying out his functions, and to review applications for financial support from and gifts offered to the Endowment and to make recommendations thereon to the Chairman.

The meeting will be held in the Old Post Office Building, 1100 Pennsylvania Avenue, NW., Washington, DC. A portion of the morning and afternoon sessions on July 12-13, 2001, will not be open to the public pursuant to subsections (c)(4), (c)(6) and (c)(9)(B) of section 552b of Title 5, United States Code because the Council will consider information that may disclose: Trade secrets and commercial of financial information obtained from a person and privileged or confidential; information of a personal nature the disclosure of which would constitute a clearly unwarranted invasion of personal privacy; and information the premature disclosure of which would be likely to significantly frustrate implementation of proposed agency action. I have made this determination under the authority granted me by the Chairman's Delegation of Authority dated July 19, 1993.

The agenda for the session on July 12, 2001 will be as follows:

Committee Meeting

(Open to the Public)—Policy Discussion

9:00-10:30 a.m.

Education Programs—Room M-07

Federal/State Partnership—Room 507

Preservation and Access/Challenge Grants—Room 415

Public Programs—Room 426

Research Programs—Room 315

(Closed to the Public)—Discussion of specific grant applications and programs before the Council

10:30 a.m. until Adjourned

Education Programs—Room M-07

Federal/State Partnership—Room 507

Preservation and Access/Challenge Grants—Room 415

Public Programs—Room 426

Research Programs—Room 315

1:30-3:00 p.m.

National Humanities Medal/Jefferson Lecture Committee Meeting—Room 507

The morning session on July 13, 2001 will convene at 9 a.m., in the 1st Floor Council Room, M-09, and will be open to the public, as set out below. The agenda for the morning session will be as follows:

Minutes of the Previous Meeting Reports

A. Introductory Remarks and Presentation

B. Staff Report

C. Congressional Report

D. Reports on Policy and General Matters

1. Overview

2. Research Programs

3. Education Programs

3. Preservation and Access/Challenge Grants

4. Public Programs

5. Federal/State Partnership

6. National Humanities Medal/Jefferson Lecture

The remainder of the proposed meeting will be given to the consideration of specific applications and closed to the public for the reasons stated above.

Further information about this meeting can be obtained from Ms. Laura S. Nelson, Advisory Committee Management Officer, National Endowment for the Humanities, 1100 Pennsylvania Avenue, NW., Washington, DC 20506, or by calling (202) 606-8322, TDD (202) 606-8282. Advance notice of any special needs or accommodations is appreciated.

Laura S. Nelson,
Advisory Committee Management Officer.

[FR Doc. 01-16212 Filed 6-27-01; 8:45 am]

BILLING CODE 7536-01-M